DEPARTMENT OF THE INTERIOR

Fish and Wildlife Service

[FWS-R3-ES-2009-N190; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before October 19, 2009.

ADDRESSES: Send written comments to the Regional Director, Attn: Peter Fasbender, U.S. Fish and Wildlife Service, Ecological Services, 1 Federal Drive, Fort Snelling, MN 55111-4056; electronic mail, permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations at 50 CFR 17. Submit your written data, comments, or request for a copy of the complete application to the address shown in ADDRESSES. When submitting comments, please refer to the appropriate permit application number.

Permit Applications

Permit Application Number: TE224720

Applicant: ABR, Inc., Environmental Research & Services, Forest Grove, Oregon.

The applicant requests a permit to take (harass through capture and release; collection of hair and tissue samples) Indiana bats (Myotis sodalis) and gray bats (Myotis grisescens) throughout the States of Indiana, Iowa, Illinois, Michigan, Missouri, Ohio, and Wisconsin. Proposed activities under this permit application include surveys to document species' presence or absence in areas proposed for wind-energy development, studies to document habitat use, collection of echolocation data and hair/tissue sampling for scientific research. The applicant's proposed activities are aimed at enhancement of the survival of the species in the wild.

Permit Application Number: TE224719

Applicant: Richard B. King, DeKalb, Illinois.

The applicant requests renewal of a permit to take the Lake Erie water snake (Nerodia sipedon insularum) in the State of Ohio. Proposed activities include capture and release of snakes, insertion of PIT tags or radio transmitters, blood sampling, stomach sampling, and temporarily holding snakes for scientific study or public exhibition. These proposed activities are for enhancement of the survival of the species in the wild.

Permit Application Number: TE226335

Applicant: Michael C. Quist, Ames, Iowa.

The applicant requests a permit to take the Topeka shiner (Notropis topeka) in the State of Iowa. Proposed activities include capture and release to determine presence or absence of the species and to study species' distribution. The applicant also proposes to take voucher specimens to document presence of the species in formerly undocumented sites or in sites where documentation is over 20 years old. These proposed activities are for the enhancement of survival of the species in the wild.

Permit Application Number: TE195082-1

Applicant: Thomas E. Tomasi, Springfield, Missouri.

The applicant requests an amendment to his permit to add Virginia big-eared bats (Corynorhinus townsendii virginianus) to the list of species covered by the permit. In addition, this amendment request seeks authorization to capture and temporarily hold Virginia big-eared bats and gray bats at Missouri State University for a period of five months during hibernation. Bats are proposed to be captured from caves in Missouri and Kentucky and will be returned unharmed to point of capture at the end of the hibernation period. The proposed research activity is aimed at enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: September 11, 2009.
Lynn M. Lewis,
Assistant Regional Director, Ecological Services, Region 3.

[FR Doc. E9-22375 Filed 9-16-09; 8:45 am]

BILLING CODE 4310-55-P